FEDERAL DEPOSIT INSURANCE CORPORATION

Notice to All Interested Parties of the Termination of the Receivership of 10401—Blue Ridge Savings Bank, Inc.; Asheville, North Carolina

Notice is hereby given that the Federal Deposit Insurance Corporation (FDIC) as Receiver for Blue Ridge Savings Bank, Inc., Asheville, North Carolina (“the Receiver”) intends to terminate its receivership for said institution. The FDIC was appointed Receiver of Blue Ridge Savings Bank, Inc. on October 14, 2011. The liquidation of the receivership assets has been completed. To the extent permitted by available funds and in accordance with law, the receiver will be making a final dividend payment to proven creditors.

Based upon the foregoing, the receiver has determined that the continued existence of the receivership will serve no useful purpose. Consequently, notice is given that the receivership shall be terminated, to be effective no sooner than thirty days after the date of this notice. If any person wishes to comment concerning the termination of the receivership, such comment must be made in writing and sent within thirty days of the date of this notice to: Federal Deposit Insurance Corporation, Division of Resolutions and Receiverships, Attention: Receivership Oversight Department 34.6, 1601 Bryan Street, Dallas, TX 75201.

No comments concerning the termination of this receivership will be considered which are not sent within this time frame.

Dated: October 11, 2017.
Federal Deposit Insurance Corporation.
Robert E. Feldman,
Executive Secretary.

[FR Doc. 2017-22290 Filed 10-13-17; 8:45 am]

BILLING CODE 6714-01-P